DEPARTMENT OF VETERANS AFFAIRS

38 CFR Part 3

RIN 2900-AK03

State Department as Agent of Department of Veterans Affairs

AGENCY: Department of Veterans Affairs.

ACTION: Proposed rule.

SUMMARY: This document proposes to amend the Department of Veterans Affairs (VA) regulation that authorizes diplomatic and consular officers of the State Department to act as agents of VA. The intended effect of this amendment is to present the existing regulation in “plain language”.

DATES: Comments must be received on or before October 22, 2001.

ADDRESSES: Mail or hand deliver written comments to: Director, Office of Regulations Management (02D), Department of Veterans Affairs, 810 Vermont Ave., NW, Room 1154, Washington, DC 20420; or fax comments to (202) 273-9289; or e-mail comments to OGCRegulations@mail.va.gov. Comments should indicate that they are submitted in response to “RIN 2900-AK03”. All comments received will be available for public inspection at the above address in the Office of Regulations Management, Room 1158, between the hours of 8:00 a.m. and 4:30 p.m., Monday through Friday (except holidays).

FOR FURTHER INFORMATION CONTACT: Bob White, Team Leader, Plain Language Regulations Project, Veterans Benefits Administration, 810 Vermont Avenue, NW, Washington, DC 20420. Telephone: 202/273-7228 (this is not a toll-free number).

SUPPLEMENTARY INFORMATION: VA proposes to rewrite 38 CFR 3.108 in plain language. This regulation authorizes diplomatic and consular officers of the State Department to act as agents of VA. It is currently located in Subpart A of Part 3. We propose to create a new § 3.2125 to restate the current regulation. The proposed section would be located in Subpart D, Universal Adjudication Rules That Apply to Benefit Claims Governed by Part 3 of This Title.

Paragraph (a) of proposed § 3.2125 would authorize State Department diplomatic and consular officers to accept informal and formal claims filed in a foreign country. It would also authorize them to accept evidence submitted in support of those claims. Paragraph (b) would provide that such claims and evidence will be considered to be filed with VA on the date they are received by a State Department officer. This restates the text currently found at 38 CFR 3.108. No substantive changes have been made.

This rulemaking reflects VA's goal of making government more responsive, accessible, and comprehensible to the public. The Plain Language Regulations Project was developed as a long-term comprehensive project to reorganize and rewrite in plain language the adjudication regulations in Part 3 of Title 38, Code of Federal Regulations. This proposed rule is part of a series of proposed revisions to those regulations.

Unfunded Mandates

The Unfunded Mandates Reform Act, Public Law 104-4, March 22, 1995, requires (in section 202) that agencies prepare an assessment of anticipated costs and benefits before developing any rule that may result in an expenditure by State, local, or tribal governments, in the aggregate, or by the private sector of $100 million or more in any given year. This proposed rule will have no consequential effect on State, local, or tribal governments.

Paperwork Reduction Act

This document contains no provisions constituting a collection of information under the Paperwork Reduction Act (44 U.S.C. 3501-3520).

Regulatory Flexibility Act

The Secretary certifies that the adoption of this proposed rule would not have a significant economic impact on a substantial number of small entities as they are defined in the Regulatory Flexibility Act, 5 U.S.C. 601-612. The proposed rule will not directly affect any small entities. Only VA beneficiaries could be directly affected. Therefore, pursuant to 5 U.S.C. 605(b), this amendment is exempt from the initial and final regulatory flexibility analysis requirements of sections 603 and 604.

Catalog of Federal Domestic Assistance Program Numbers

The Catalog of Federal Domestic Assistance program numbers for this document are 64.102, 64.104, 64.105, 64.109, 64.110, and 64.127.

List of Subjects in 38 CFR Part 3

Administrative practice and procedure, Claims, Disability benefits, Health care, Pensions, Veterans, Vietnam.

Approved: August 14, 2001.
Anthony J. Principi,
Secretary of Veterans Affairs.

For the reasons set forth in the preamble, VA proposes to amend 38 CFR Part 3 as follows:

PART 3—ADJUDICATION

Subpart A—Pension, Compensation, and Dependency and Indemnity Compensation

1. The authority citation for Part 3, Subpart A continues to read as follows:

Authority: 38 U.S.C. 501(a), unless otherwise noted.

§ 3.108 [Removed]

2. Section 3.108 is removed.

Subpart D—Universal Adjudication Rules That Apply to Benefit Claims Governed by Part 3 of This Title

3. The authority citation for Part 3, Subpart D continues to read as follows:

Authority: 38 U.S.C. 501(a), unless otherwise noted.

4. New § 3.2125 is added under the undesignated center heading “GENERAL” to read as follows:

§ 3.2125 How can I file a claim if I live outside of the United States?

(a) Diplomatic and consular officers of the State Department are authorized to act as agents for the Department of Veterans Affairs (VA). Officers at U.S. Embassies and Consulates may accept formal and informal claims filed in foreign countries. They may also accept evidence submitted in support of those claims. (See 38 CFR 3.202.)

(b) Claims and evidence are considered filed with VA on the date they are received by a State Department officer.

(Authority: 38 U.S.C. 5106)

[FR Doc. 01-21135 Filed 8-21-01; 8:45 am]

BILLING CODE 8320-01-P